DEPARTMENT OF HEALTH AND HUMAN SERVICES

Public Health Service

National Institutes of Health

Extension of Public Comment Period on Draft National Institutes of Health Guidelines for Research Involving Human Pluripotent Stem Cells (December 1999)

The National Institutes of Health is extending the public comment period on the Draft National Institutes of Health Guidelines for Research Involving Human Pluripotent Stem Cells (December 1999) for three weeks. Written comments should be received by NIH on or before February 22, 2000. Comments should be addressed to: Stem Cell Guidelines, NIH Office of Science Policy, 1 Center Drive, Building 1, Room 218, Bethesda, MD 20892. Comments may also be sent by facsimile transmission to Stem Cell Guidelines at (301) 402-0280, or by e-mail to: stemcell@mail.nih.gov.

January 28, 2000.
Ruth Kirschstein,
Acting Director, NIH.

[FR Doc. 00-2353 Filed 2-2-00; 8:45 am]

BILLING CODE 4140-01-P